OFFICE OF THE UNITED STATES TRADE REPRESENTATIVE

Request for Comments Concerning Compliance With Telecommunications Trade Agreements

AGENCY: Office of the United States Trade Representative.

ACTION: Notice of request for public comment and reply comment.

SUMMARY: Pursuant to section 1377 of the Omnibus Trade and Competitiveness Act of 1988 (19 U.S.C. 3106) (“section 1377”), the Office of the United States Trade Representative (“USTR”) is reviewing and requests comments on: The operation, effectiveness, and implementation of and compliance with the following agreements regarding telecommunications products and services of the United States: the World Trade Organization (“WTO”) Agreement; the North American Free Trade Agreement (“NAFTA”); U.S. free trade agreements (“FTAs”) with Australia, Bahrain, Chile, Morocco, and Singapore; the Dominican Republic—Central America—United States Free Trade Agreement (“CAFTA-DR”); and any other FTA or telecommunications trade agreement coming into force on or before January 1, 2008. The USTR will conclude the review by March 31, 2008.

DATES: Comments are due by noon on December 21, 2007 and Reply Comments by noon on January 25, 2008.

ADDRESSES: Gloria Blue, Executive Secretary, Trade Policy Staff Committee, Attn: Section 1377 Comments, Office of the United States Trade Representative, 1724 F Street, NW., Washington, DC 20508.

FOR FURTHER INFORMATION CONTACT: Catherine Hinckley, Office of Industry, Market Access, and Telecommunications (202) 395-9539; or Amy Karpel, Office of the General Counsel (202) 395-3150.

SUPPLEMENTARY INFORMATION: Section 1377 requires the USTR to review annually the operations and effectiveness of all U.S. trade agreements regarding telecommunications products and services of the United States that are in force with respect to the United States. The purpose of the review is to determine whether any act, policy, or practice of a country that has entered into an FTA or other telecommunications trade agreement with the United States is inconsistent with the terms of such agreement or otherwise denies U.S. firms, within the context of the terms of such agreements, mutually advantageous market opportunities. For the current review, the USTR seeks comments on:

(1) Whether any WTO member is acting in a manner that is inconsistent with its obligations under WTO agreements affecting market opportunities for telecommunications products or services, e.g., the WTO General Agreement on Trade in Services (“GATS”), including the Annex on Telecommunications and any scheduled commitments including the Reference Paper on Pro-Competitive Regulatory Principles;

(2) Whether Canada or Mexico has failed to comply with its telecommunications obligations under the NAFTA;

(3) Whether El Salvador, the Dominican Republic, Guatemala, Honduras or Nicaragua has failed to comply with its telecommunications obligations under the CAFTA-DR;

(4) Whether Australia, Bahrain, Chile, Morocco, Singapore, or any other country for which an FTA with the United States will be in force before January 1, 2008, has failed to comply with its telecommunications obligations under the respective FTA between the United States and that country (see http://www.ustr.gov/Trade_Agreements/Section_Index.html for U.S. FTAs);

(5) Whether any country has failed to comply with its obligations under telecommunications trade agreements with the United States other than FTAs, e.g., Mutual Recognition Agreements (MRAs) for Conformity Assessment of Telecommunications Equipment (see http://www.tcc.mac.doc.gov for a collection of trade agreements related inter alia to telecommunications);

(6) Whether any country has permitted or encouraged extensive reliance on or abuse of its judicial system to systematically or unreasonably delay or prevent regulatory action to ensure its compliance with obligations under telecommunications trade agreements

(7) Whether any act, policy, or practice of a country cited in a previous section 1377 review remains unresolved (see http://www.ustr.gov/Trade_Sectors/Telecom-E-commerce/Section_1377/Section_Index.html for the 2007 review); and

(8) Whether any measures or practices impede access to telecommunications markets or otherwise deny telecommunications products and services of the United States market opportunities with respect to any country that is a WTO member or for which an FTA or telecommunications trade agreement has entered into force between such country and the United States. Measures or practices of interest include, for example, prohibitions on voice over the Internet (VOIP) services; requirements for access or use of networks that limit the products or services U.S. suppliers can offer in specific markets; and the imposition of unnecessary or discriminatory technical regulations or standards in the telecom product or services sectors.

Public Comment and Reply Comment: Requirements for Submission

All comments must be in English, must identify (on the first page of the comments) the telecommunications trade agreement(s) discussed therein, and must be submitted by noon on December 21, 2007. Reply comments must also be in English and must be submitted by noon on January 25, 2008. Reply comments should only address issues raised by the comments.

In order to ensure the most timely and expeditious receipt and consideration of comments and reply comments, USTR has arranged to accept submissions in electronic format (e-mail). Comments should be submitted electronically to FR0502@ustr.eop.gov. An automatic reply confirming receipt of an e-mail submission will be sent. E-mail submissions in, Adobe Acrobat, Microsoft Word, or Corel WordPerfect are preferred. If a word processing application other than those three is used, please identify in your submission the specific application used. For any comments submitted electronically containing business confidential information, the file name of the business confidential version should begin with the characters “BC”. Any page containing business confidential information must be clearly marked “BUSINESS CONFIDENTIAL” on the top of that page. Filers of submissions containing business confidential information must also submit a public version of their comments. The file name of the public version should begin with the character “P”. The “BC” and “P” should be followed by the name of the person or entity submitting the comments or reply comments. Filers submitting comments containing no business confidential information should name their file using the character “P”, followed by the name of the person or entity submitting the comments or reply comments. Electronic submissions should not contain separate cover letters; rather, information that might appear in a cover letter should be included in the submission itself. Similarly, to the extent possible, any attachments to a submission should be included in the same file as the submission itself and not as separate files. All non-confidential comments and reply comments will be placed on the USTR Web site, http://www.USTR.gov, and in the USTR Reading Room for inspection shortly after the filing deadline, except business confidential information exempt from public inspection in accordance with 15 CFR 2003.6.

We strongly urge submitters to avail themselves of the electronic filing, if at all possible. If an e-mail submission is impossible, the submitter must deliver 15 copies of both the business confidential and the public versions via private commercial courier along with a diskette containing a copy of the business confidential and public version of the submission. Arrangements must be made with Ms. Blue prior to delivery for the receipt of such submissions. Ms. Blue should be contacted at (202) 395-3475.

An appointment to review any comments and reply comments filed may be made by calling the USTR Reading Room at (202) 395-6186. The USTR Reading Room is open to the public from 9:30 a.m. to 12 noon and from 1 p.m. to 4 p.m., Monday through Friday, and is located in Room 3 of 1724 F Street, NW.

Carmen Suro-Bredie,
Chair, Trade Policy Staff Committee.

[FR Doc. E7-22583 Filed 11-16-07; 8:45 am]

BILLING CODE 3190-W8-P